DEPARTMENT OF ENERGY

Federal Energy Regulatory Commission

Combined Notice of Filings

Take notice that the Commission has received the following Natural Gas Pipeline Rate and Refund Report filings:

Filings Instituting Proceedings

Docket Numbers: PR25-21-000.

Applicants: Rocky Mountain Natural Gas LLC.

Description: § 284.123 Rate Filing: RMNG Revised SOC reflecting FLU Change to be effective 11/1/2024.

Filed Date: 12/3/24.

Accession Number: 20241203-5151.

Comment Date: 5 p.m. ET 12/24/24.

Docket Numbers: RP25-253-000.

Applicants: Rover Pipeline LLC.

Description: § 4(d) Rate Filing: Summary of Negotiated Rate Capacity Release Agreements 12-2-2024 to be effective 12/1/2024.

Filed Date: 12/2/24.

Accession Number: 20241202-5137.

Comment Date: 5 p.m. ET 12/16/24.

Docket Numbers: RP25-254-000.

Applicants: Gulf South Pipeline Company, LLC.

Description: § 4(d) Rate Filing: Amendment to Neg Rate Agmt (Entergy LA 48769) to be effective 12/1/2024.

Filed Date: 12/2/24.

Accession Number: 20241202-5148.

Comment Date: 5 p.m. ET 12/16/24.

Docket Numbers: RP25-255-000.

Applicants: Maritimes & Northeast Pipeline, L.L.C.

Description: § 4(d) Rate Filing: Negotiated Rates—Northern to NRG Bus Mktg—eff 12-1-24 to be effective 12/1/2024.

Filed Date: 12/2/24.

Accession Number: 20241202-5161.

Comment Date: 5 p.m. ET 12/16/24.

Docket Numbers: RP25-256-000.

Applicants: NEXUS Gas Transmission, LLC.

Description: § 4(d) Rate Filing: Negotiated Rates—Castleton 860576 and 860581 eff 12-1-24 to be effective 12/1/2024.

Filed Date: 12/2/24.

Accession Number: 20241202-5173.

Comment Date: 5 p.m. ET 12/16/24.

Docket Numbers: RP25-257-000.

Applicants: Texas Eastern Transmission, LP.

Description: § 4(d) Rate Filing: Negotiated Rates—Con Ed 910950 Releases eff 12-1-24 to be effective 12/1/2024.

Filed Date: 12/2/24.

Accession Number: 20241202-5177.

Comment Date: 5 p.m. ET 12/16/24.

Docket Numbers: RP25-258-000.

Applicants: Texas Gas Transmission, LLC.

Description: Compliance filing: Neg Rate Compliance Filing re CP21-467-000 to be effective 12/1/2024.

Filed Date: 12/2/24.

Accession Number: 20241202-5182.

Comment Date: 5 p.m. ET 12/16/24.

Docket Numbers: RP25-259-000.

Applicants: Algonquin Gas Transmission, LLC.

Description: § 4(d) Rate Filing: Negotiated Rates—Various Releases eff 12-1-24 to be effective 12/1/2024.

Filed Date: 12/2/24.

Accession Number: 20241202-5187.

Comment Date: 5 p.m. ET 12/16/24.

Docket Numbers: RP25-260-000.

Applicants: Eastern Shore Natural Gas Company.

Description: § 4(d) Rate Filing: Capital Cost Surcharge Eff. January 1, 2025, to be effective 1/1/2025.

Filed Date: 12/2/24.

Accession Number: 20241202-5190.

Comment Date: 5 p.m. ET 12/16/24.

Docket Numbers: RP25-261-000.

Applicants: NEXUS Gas Transmission, LLC.

Description: § 4(d) Rate Filing: Negotiated Rates—Various Releases eff 12-1-2024a to be effective 12/1/2024.

Filed Date: 12/2/24.

Accession Number: 20241202-5242.

Comment Date: 5 p.m. ET 12/16/24.

Docket Numbers: RP25-262-000.

Applicants: NEXUS Gas Transmission, LLC.

Description: § 4(d) Rate Filing: Negotiated Rates—CNX 860004 eff 12-1-24 to be effective 12/1/2024.

Filed Date: 12/3/24.

Accession Number: 20241203-5000.

Comment Date: 5 p.m. ET 12/16/24.

Docket Numbers: RP25-263-000.

Applicants: Texas Gas Transmission, LLC.

Description: § 4(d) Rate Filing: Cap Rel Neg Rate Agmts (Flywheel to Gunvor) to be effective 12/1/2024.

Filed Date: 12/3/24.

Accession Number: 20241203-5118.

Comment Date: 5 p.m. ET 12/16/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 3, 2024.
Carlos D. Clay,
Acting Deputy Secretary.

[FR Doc. 2024-28836 Filed 12-6-24; 8:45 am]

BILLING CODE 6717-01-P